DEPARTMENT OF TRANSPORTATION

Federal Highway Administration

[Docket No. FHWA-2022-0002]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by May 16, 2022.

ADDRESSES: You may submit comments identified by DOT Docket ID FHWA 2022-0002 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Sarah Weissman Pascual, 202-366-0087, Office of Safety, Federal Highway Administration, Department of Transportation, 1200 New Jersey Avenue SE, Washington, DC 20590. Office hours are from 8 a.m. to 5 p.m., Monday through Friday, except Federal holidays.

SUPPLEMENTARY INFORMATION: Title: High Risk Rural Roads (HRRR) Study Update and Report to Congress, Best Practices Manual Update.

Background: On November 15, 2021, President Biden signed the Infrastructure Investment and Jobs Act (IIJA) (Pub. L. 117-58, also known as the “Bipartisan Infrastructure Law”) into law. The 23 U.S.C. 148 note (135 STAT. 478) requires the USDOT to update the HRRR Study, report and Best Practices Manual first completed under MAP-21.

(b) HIGH-RISK RURAL ROADS.—

(1) STUDY.—Not later than 2 years after the date of enactment of this Act, the Secretary shall update the study under section 1112(b)(1) of MAP-21 (23 U.S.C. 148 note; Pub. L. 112-141).

(2) PUBLICATION OF REPORT.—Not later than 2 years after the date of enactment of this Act, the Secretary shall publish on the website of the Department of Transportation an update to the report described in section 1112(b)(2) of MAP-21 (23 U.S.C. 148 note; Pub. L. 112-141).

(3) BEST PRACTICES MANUAL.—Not later than 180 days after the date on which the report is published under paragraph (2), the Secretary shall update the best practices manual described in section 1112(b)(3) of MAP-21 (23 U.S.C. 148 note; Pub. L. 112-141).

In carrying out the study update, it is required to conduct a nationwide survey of the current practices of various agencies. The results of the survey are to be used in conjunction with a research study to prepare a report to be published on the Department of Transportation website. The report is required to include: (1) A summary of cost-effective roadway safety infrastructure improvements; (2) a summary of the latest research on the financial savings and reductions in fatalities and serious bodily injury crashes from the implementation of cost-effective roadway safety infrastructure improvements; (3) and recommendations for State and local governments on best practice methods to install cost-effective roadway safety infrastructure on high-risk rural roads. The legislation also requires the results of the survey and the report to be used to update a best practices manual to support Federal, State, and local efforts to reduce fatalities and serious injuries on high risk rural roads.

Respondents: The respondents will include all 52 State Departments of Transportation (including the District of Columbia and Puerto Rico). In addition, a representative sampling of 100 local agencies, including county highway departments and municipal public works agencies will be surveyed.

Frequency: Once.

Estimated Average Burden per Response: Approximately 4 hours per participant.

Estimated Total Annual Burden Hours: The total burden for this collection is approximately 608 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued On: March 9, 2022.
Michael Howell,
Information Collection Officer.

[FR Doc. 2022-05355 Filed 3-14-22; 8:45 am]

BILLING CODE 4910-22-P